DEPARTMENT OF HEALTH AND HUMAN SERVICES

Administration for Children and Families

Submission for OMB Review; Comment Request

Title: Evaluation of Adolescent Pregnancy Prevention Approaches—First Follow-up Data Collection.

OMB No.: ICRAS: 0970-0360.

Description: The Administration for Children and Families (ACE), U.S. Department of Health and Human Services (HHS), is proposing a data collection activity as part of the Evaluation of Adolescent Pregnancy Prevention Approaches (PPA). PPA is a random assignment evaluation designed to result in rigorous evidence on effective ways to reduce teen pregnancy. The evaluation will document and test a range of pregnancy prevention approaches in up to eight program demonstration sites. The findings of the evaluation will be of interest to the general public, to policy makers, and to organizations interested in teen pregnancy prevention.

This request for comment follows on a 60-Day Federal Register Public Comment Request Notice, published on Monday, July 12, 2010, pp. 39695-39696, with the document identifier of OS-0990-New.

This proposed information collection activity focuses on collecting follow-up data from a self-administered questionnaire which will be analyzed to determine program effects. Through a survey instrument, respondents will be asked to answer questions about demographics and risk and protective factors related to teen pregnancy.

Respondents: The data will be collected through private, self-administered questionnaires completed by study participants, i.e. adolescents assigned to a select school or community teen pregnancy prevention program or to a control group. Surveys will be distributed and collected by trained professional staff.

Annual Burden Estimates
Instrument | Annual number of respondents | Number of responses | Average burden per hours response | Total annual burden hours
First Follow-up Instrument | 3,060 | 1 | 0.5 | 1,530.
Estimated Total Annual Burden Hours: |  |  |  | 1,530.

Additional Information:

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

Dated: March 24, 2011.
Seth F. Chamberlain,
OPRE Reports Clearance Officer.

[FR Doc. 2011-7337 Filed 3-29-11; 8:45 am]

BILLING CODE 4184-07-M